DEPARTMENT OF TRANSPORTATION

Research and Special Programs Administration

[Docket No. RSPA-2004-16964 (Notice No. 04-4)]

Information Collection Activity Under OMB Review

AGENCY: Research and Special Programs Administration (RSPA), DOT.

ACTION: Notice and request for comments.

SUMMARY: In compliance with the Paperwork Reduction Act of 1995 (44 U.S.C. 3501 et seq.), this notice announces that the Information Collection Requests (ICRs) abstracted below have been forwarded to the Office of Management and Budget (OMB) for review and comments. The ICRs describe the nature of the information collections and their expected burden. The Federal Register notice with a 60-day comment period soliciting comments on the following collections of information was published on March 8, 2004, 69 FR 10808-10811.

DATES: Comments must be submitted on or before June 17, 2004.

FOR FURTHER INFORMATION CONTACT: Deborah Boothe or T. Glenn Foster, Office of Hazardous Materials Standards (DHM-10), Research and Special Programs Administration, Room 8430, 400 Seventh Street, SW., Washington, DC 20590-0001, telephone (202) 366-8553.

SUPPLEMENTARY INFORMATION: Title: Requirements for Cargo Tanks.

OMB Control Number: 2137-0014.

Type of Request: Extension of a currently approved collection.

Abstract: This information collection consolidates and describes the information collection provisions in parts 178 and 180 of the HMR involving the manufacture, qualification, maintenance and use of all specification cargo tank motor vehicles. It also includes the information collection and recordkeeping requirements for persons who are engaged in the manufacture, assembly, requalification and maintenance of DOT specification cargo tank motor vehicles. The types of information collected include:

(1) Registration Statements: Cargo tank manufacturers and repairers, and cargo tank motor vehicle assemblers are required to register with DOT by furnishing information relative to their qualifications to perform the functions in accordance with the HMR. The registration statements are used by DOT to ensure that these persons possess the knowledge and skills necessary to perform the required functions and that they are performing the specified functions in accordance with the applicable regulations.

(2) Requalification and maintenance reports: These reports are prepared by persons who requalify or maintain cargo tanks. This information is used by cargo tank owners, operators and users, and DOT compliance personnel to verify that the cargo tanks are requalified, maintained and are in proper condition for the transportation of hazardous materials in accordance with the HMR.

(3) Manufacturers' data reports, certificates and related papers: These reports are prepared by cargo tank manufacturers and certifiers, and are used by cargo tank owners, operators, users and DOT compliance personnel to verify that a cargo tank motor vehicle was designed and constructed to meet all requirements of the applicable specification.

Affected Public: Manufacturers, assemblers, repairers, requalifiers, certifiers and owners of cargo tanks.

Estimated Number of Respondents: 41,366.

Estimated Number of Responses: 132,600.

Annual Estimated Burden Hours: 102,021.

Frequency of Collection: On occasion.

Title: Inspection and Testing of Portable Tanks and Intermediate Bulk Containers.

OMB Control Number: 2137-0018.

Type of Request: Extension of a currently approved collection.

Abstract: This information collection consolidates provisions for documenting qualifications, inspections, tests and approvals pertaining to the manufacture and use of portable tanks and intermediate bulk containers under various provisions of the HMR. It is necessary to ascertain whether portable tanks and intermediate bulk containers have been qualified, inspected and retested in accordance with the HMR. The information is used to verify that certain portable tanks and intermediate bulk containers meet required performance standards prior to their being authorized for use, and to document periodic requalification and testing to ensure the packagings have not deteriorated due to age or physical abuse to a degree that would render them unsafe for the transportation of hazardous materials. Applicable sections are as follows: § 173.32—requirements for the use of portable tanks; § 173.35—hazardous materials in intermediate bulk containers; § 178.245-6—certification markings for DOT-51 portable tanks; § 178.245-7—manufacturer's data report for DOT-51 portable tanks: § 178.255-14—certification markings for DOT-60 portable tanks; § 178.255-15—manufacturer's data report for DOT-60 portable tanks; § 178.270-14—certification marking of IM portable tanks; § 178.801—testing, retesting and recordkeeping for intermediate bulk containers; and § 180.352—periodic retests and inspections for intermediate bulk containers.

Affected Public: Manufacturers and owners of portable tanks and intermediate bulk containers.

Recordkeeping:

Number of Respondents: 8,770.

Total Annual Responses: 86,100.

Total Annual Burden Hours: 66,390.

Frequency of collection: On occasion.

Title: Hazardous Materials Incident Reports.

OMB Control Number: 2137-0039.

Type of Request: Extension of a currently approved collection.

Abstract: This collection is applicable when an incident occurs in transportation as prescribed in §§ 171.15 and 171.16 of the HMR. A Hazardous Materials Incident Report, DOT Form F 5800.1, must be completed by the person in physical possession of the hazardous material at the time a hazardous material incident occurs in transportation, such as a release of materials, serious accident, evacuation, or closure of a major transportation artery. Incidents meeting criteria in § 171.15 also require a telephonic report. This information collection enhances the Department's ability to evaluate the effectiveness of its regulatory program, determine the need for regulatory changes, and address emerging hazardous materials transportation safety issues. The requirements apply to all interstate and intrastate carriers engaged in the transportation of hazardous materials by rail, air, water, and highway.

Affected Public: Person in physical possession of a hazardous material at the time an incident occurs in transportation.

Estimated Number of Respondents: 1,781.

Estimated Number of Responses: 17,810.

Annual Estimated Burden Hours: 23,746.

Frequency of Collection: On occasion.

Title: Flammable Cryogenic Liquids.

OMB Control Number: 2137-0542.

Type of Request: Extension of a currently approved collection.

Abstract: Paragraph (h) of § 177.840 specifies certain safety procedures and documentation requirements for drivers of these motor vehicles. Provisions in § 177.840(l) of the HMR require the carriage on a motor vehicle of written procedures for venting flammable cryogenic liquids and for emergency response. These requirements are intended to ensure a high level of safety when transporting flammable cryogenics, which are characterized by extreme flammability and high compression ratio when in a liquid state.

Affected Public: Carriers of cryogenic materials.

Estimated Number of Respondents: 65.

Estimated Number of Responses: 18,200.

Annual Estimated Burden Hours: 1,213.

Frequency of Collection: On occasion.

Title: Testing Requirements for Non-bulk Packaging.

OMB Control Number: 2137-0572.

Type of Request: Extension of a currently approved collection.

Abstract: Detailed packaging manufacturing specifications have been replaced by a series of performance tests that a non-bulk packaging must be capable of passing before it is authorized to be used for transporting hazardous materials. The HMR require proof that packagings meet these testing requirements. Manufacturers must retain records of design qualification tests and periodic retests. Manufacturers must notify, in writing, persons to whom packagings are transferred of any specification requirements that have not been met at the time of transfer; and the type and dimensions of any closures, including gaskets, needed to satisfy performance test requirements. Subsequent distributors must also provide written notification. Performance-oriented packaging standards allow manufacturers and shippers much greater flexibility in selecting more economical packagings.

Affected Public: Each non-bulk packaging manufacturer that tests packagings to ensure compliance with the HMR.

Estimated Number of Respondents: 5,000.

Estimated Number of Responses: 15,000.

Annual Estimated Burden Hours: 30,000.

Frequency of Collection: On occasion.

Title: Container Certification Statement.

OMB Control Number: 2137-0582.

Type of Request: Extension of a currently approved collection.

Abstract: Shippers of explosives, in freight containers or transport vehicles by vessel, are required to certify on shipping documentation that the freight container or transport vehicle meets minimal structural serviceability requirements. This requirement is intended to ensure an adequate level of safety for transport of explosives aboard vessel and ensure consistency with similar requirements in international standards.

Affected Public: Shippers of explosives in freight containers or transport vehicles by vessel.

Estimated Number of Respondents: 650.

Estimated Number of Responses: 890,000 HM Containers & 4400 Explosive Containers.

Annual Estimated Burden Hours: 14,908.

Frequency of Collection: On occasion.

Title: Hazardous Materials Public Sector Training and Planning Grants.

OMB Control Number: 2137-0586.

Type of Request: Extension of a currently approved collection.

Abstract: Part 110 of 49 CFR sets forth the procedures for reimbursable grants for public sector planning and training in support of the emergency planning and training efforts of States, Indian tribes and local communities to manage hazardous materials emergencies, particularly those involving transportation. Sections in this part address information collection and recordkeeping with regard to applying for grants, monitoring expenditures, and reporting and requesting modifications.

Affected Public: State and local governments, Indian tribes.

Estimated Number of Respondents: 66.

Estimated Number of Responses: 66.

Annual Estimated Burden Hours: 4,082.

Frequency of Collection: On occasion.

Title: Response Plans for Shipments of Oil.

OMB Control Number: 2137-0591.

Type of Request: Extension of a currently approved collection.

Abstract: In recent years, several major oil discharges have damaged the marine environment of the United States. Under the authority of the Federal Water Pollution Control Act, as amended by the Oil Pollution Act of 1990, RSPA issued regulations in 49 CFR Part 130 that require preparation of written spill response plans.

Affected Public: Carriers that transport oil in bulk, by motor vehicle or rail.

Estimated Number of Respondents: 8,000.

Estimated Number of Responses: 8,000.

Annual Estimated Burden Hours: 10,560.

Frequency of Collection: On occasion.

Title: Cargo Tank Motor Vehicles in Liquefied Compressed Gas Service.

OMB Control Number: 2137-0595.

Type of Request: Extension of a currently approved collection.

Abstract: These information collection and recordkeeping requirements pertain to the manufacture, certification, inspection, repair, maintenance, and operation of DOT specification MC 330, MC 331, and certain nonspecification cargo tank motor vehicles used to transport liquefied compressed gases. These information collection and recordkeeping requirements are intended to ensure certain cargo tank motor vehicles used to transport liquefied compressed gases are operated safely, and to minimize the potential for catastrophic releases during unloading and loading operations. They include: (1) Requirements for operators of cargo tank motor vehicles in liquefied compressed gas service to develop operating procedures applicable to unloading operations and carry the operating procedures on each vehicle; (2) inspection, maintenance, marking and testing requirements for the cargo tank discharge system, including delivery hose assemblies; and (3) requirements for emergency discharge control equipment on certain cargo tank motor vehicles transporting liquefied compressed gases that must be installed and certified by a Registered Inspector. (See sections 180.416(b)(d)(f); 180.405;180.407(h); 177.840(l); and 173.315(n)).

Affected Public: Carriers in liquefied compressed gas service, manufacturers and repairers.

Estimated Number of Respondents: 6,958.

Estimated Number of Responses: 965,596.

Annual Estimated Burden Hours: 200,615.

Frequency of Collection: On occasion.

ADDRESSES: Send comments regarding the burden estimate, including suggestions for reducing the burden, to Office of Management and Budget, Attention: Desk Officer for RSPA, 725 17th Street, NW., Washington, DC 20503. Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication.

Issued in Washington, DC, on May 12, 2004.
Edward T. Mazzullo,
Director, Office of Hazardous Materials Standards.

[FR Doc. 04-11202 Filed 5-17-04; 8:45 am]

BILLING CODE 4910-60-P